DEPARTMENT OF DEFENSE

Department of the Navy

[Docket ID USN-2013-0016]

Privacy Act of 1974; System of Records

AGENCY: Department of the Navy, DoD.

ACTION: Notice to alter a System of Records.

SUMMARY: The Department of the Navy proposes to alter a system of records in its inventory of record systems subject to the Privacy Act of 1974 (5 U.S.C. 552a), as amended.

DATES: This proposed action will be effective on July 16, 2013 unless comments are received which result in a contrary determination. Comments will be accepted on or before July 15, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Web site at http://dpclo.defense.gov/privacy/SORNs/component/navy/index.html. The proposed system report, as required by 5 U.S.C. 552a(r) of the Privacy Act of 1974, as amended, was submitted on May 13, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 10, 2013.
Aaron Siegel,
Alternate OSD Federal Register Liaison Officer, Department of Defense.

NM05211-1

System name:

Privacy Act Request/Amendment Files and Tracking System (April 2, 2008, 73 FR 17959)

Changes:

* * * * *

System location:

Delete entry and replace with “Organizational elements of the Department of the Navy. Official mailing addresses are published in the Standard Navy Distribution List (SNDL). Commander, U.S. Pacific Command, P.O. Box 64028, Camp H.M. Smith, HI 96861-4028.”

* * * * *

Categories of records in the system:

Delete entry and replace with “Letters, memoranda, legal opinions, messages, and miscellaneous documents relating to an individual's request for access to or amendment of records concerning that person, including letters authorizing release to another individual, letters of denial, appeals, statements of disagreements, and related documents accumulated in processing requests received under the Privacy Act of 1974, as amended.

Personal information may include: Name, home and/or work address, home and/or work phone number, fax number, home and/or work email address; proof of identity; year request filed; serial number of response letter; case file number and copies of responsive records. Privacy requests may contain unsolicited personal information.

Collection of unsolicited personal information under this notice is only authorized in connection with requests for records maintained in other systems of records for the collection and maintenance of the specified PII.”

Authority for maintenance of the system:

Delete entry and replace with “5 U.S.C. 552a, The Privacy Act of 1974, as amended; 10 U.S.C. 5013, Secretary of the Navy; 10 U.S.C. 5041, Headquarters, Marine Corps; Secretary of the Navy Instruction 5211.5, Department of the Navy Privacy Act Program.”

* * * * *

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Navy's compilation of system of records notices may apply to this system.”

Policies and practices for storing, retrieving, accessing, retaining, and disposing of records in the systems:

Storage:

Delete entry and replace with “Paper and/or electronic storage media.”

Retrievability:

Delete entry and replace with “Name; year request filed; serial number of response letter; or case file number.”

* * * * *

Retention and disposal:

Delete entry and replace with “Granted requests, responses to requests for non-existent records, responses to requesters who provide inadequate descriptions and responses to requesters who fail to pay agency reproduction fees that are not appealed are destroyed 2 years after date of reply; requests which are denied and are appealed are destroyed after 5 years; requests which are amended are retained for 4 years after agencies agreement to amend; requests for amendment which are refused are destroyed 4 years after final determination by agency or 3 years after final adjudication by the courts; disclosure accounting forms are retained for the life of the record or 5 years after the disclosure, whichever is later.”

System manager(s) and address:

Delete entry and replace with “Head, Department of Navy Privacy/Freedom of Information Act Office, Chief of Naval Operations (DNS-36), 2000 Navy Pentagon, Washington, DC 20350-2000.

Local system managers/Record Holders Organizational elements of the Department of the Navy. Official mailing addresses are published in the Standard Navy Distribution List (SNDL).

Commander, U.S. Pacific Command, P.O. Box 64028, Camp H.M. Smith, HI 96861-4028.”

Notification procedure:

Delete entry and replace with “Individuals seeking to determine whether information about themselves is contained in this system should address written inquiries to the commanding officer of the activity in question. Official mailing addresses are published in the Standard Navy Distribution List (SNDL).

The request must be signed and contain the full name of the individual and one or more of the following kinds of information: year request filed; serial number of response letter; case file number.

The system manager may require an original signature or a notarized signature as a means of proving the identity of the individual requesting access to the records.”

Record access procedures:

Delete entry and replace with “Individuals seeking access to information about themselves contained in this system should address written inquiries to the commanding officer of the activity in question. Official mailing addresses are published in the Standard Navy Distribution List (SNDL).

The request must be signed and contain the full name of the individual and one or more of the following kinds of information: year request filed; serial number of response letter; case file number.

The system manager may require an original signature or a notarized signature as a means of proving the identity of the individual requesting access to the records.”

* * * * *

[FR Doc. 2013-14052 Filed 6-12-13; 8:45 am]

BILLING CODE 5001-06-P